DEPARTMENT OF ENERGY

Federal Energy Regulatory Commission

[Docket No. CP05-58-000]

CenterPoint Energy Gas Transmission Company; Notice of Intent To Prepare an Environmental Assessment for the Proposed Chiles Dome Storage Expansion Project and Request for Comments on Environmental Issues

March 11, 2005.

The staff of the Federal Energy Regulatory Commission (FERC or Commission) will prepare an environmental assessment (EA) that will discuss the environmental impacts of the Chiles Dome Storage Expansion Project involving construction and operation of facilities by CenterPoint Energy Gas Transmission Company (CenterPoint) in Coal, Atoka, Pittsburg, and Latimer Counties, Oklahoma. CenterPoint's project purpose is to increase its Chiles Dome storage reservoir working gas capacity by three billion cubic feet and its deliverability by 43,000,000 cubic feet per day. In general, the project consists of three wells, about 23.5 miles of pipeline, and auxiliary facilities at Centerpoint's existing Chiles Dome and Chandler Compressor Stations.

This notice announces the opening of the scoping period that will be used to gather environmental input from the public and interested agencies on the project. Please note that the scoping period will close on April 11, 2005.

This notice is being sent to potentially affected landowners; federal, state, and local government agencies; elected officials; environmental and public interest groups; Native American Tribes, other interested parties; local libraries and newspapers. State and local government representatives are asked to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Web site (http://www.ferc.gov). This fact sheet addresses a number of typically asked questions, including the use of eminent domain and how to participate in the Commission's proceedings. It is available for viewing on the FERC Internet Web site (http://www.ferc.gov).

Summary of the Proposed Project

Centerpoint proposes to construct and operate: ¹

¹ CenterPoint's application was filed with the Commission under section 7 of the Natural Gas Act and Part 157 of the Commission's regulations.

(1) Three vertical wells in its Chiles Dome Storage Reservoir in Coal County, Oklahoma;

(2) About 23.4 miles of 24-inch-diameter pipeline that would extend eastward from the Chiles Dome Storage Reservoir to an existing CenterPoint 24-inch-diameter pipeline in Pittsburg County, Oklahoma. This would include:

• Two 24-inch mainline valve assemblies,

• Two blowdown stacks, and

• A pig launcher and receiver at each terminal;

(3) within its existing Chiles Dome Compressor Station in Coal County, Oklahoma:

• A pipeline liquid removal scrubber,

• A glycol dehydrator and reboiler,

• A gas cooler, filter-separator, and pressure reducing valve,

• About 400 feet of 20-inch-diameter pipe and 100 feet of 16-inch-diameter pipe, and

• Valves, fittings, and supports to connect to the proposed 24-inch-diameter pipeline; and

(4) Within its existing Chandler Compressor Station in Latimer County, Oklahoma:

• A 16-inch meter,

• An 8-inch pressure reducing valve,

• A 20-inch cross-over line, and

• About 450 feet of 20-inch-diameter pipe.

The general location of Centerpoint's proposed facilities is shown on the map attached as Appendix 1.²

² The appendices referenced in this notice are not being printed in the Federal Register. Copies of all appendices, other than appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of CenterPoint's proposed facilities would require about 255.0 acres of land for the well pads, construction right-of-way for the pipelines, additional temporary workspaces, and staging areas. The wells would require about 2.1 acres each for both construction and operation. The construction right-of-way for the pipelines would typically be 75 feet wide, except in agricultural areas or where specifically requested by landowners it could be 100 feet wide, to allow for topsoil segregation. Following construction, a 50-foot wide permanent right-of-way would be maintained.

The construction of the auxiliary facilities at the Chiles Dome and Chandler Compressor Stations would be performed within the existing CenterPoint facilities and would not require the clearing of additional land.

Construction access to CenterPoint's project would be via existing public and private roads. CenterPoint has identified 13 existing private access roads necessary for the construction of its project.

The EA Process

We ³ are preparing the EA to comply with the National Environmental Policy Act (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. By this notice, we are also asking Federal, state, and local agencies with jurisdiction and/or special expertise with respect to environmental issues to formally cooperate with us in the preparation of the EA. Agencies that would like to request cooperating status should follow the instructions for filing comments below.

³ “We”, “us”, and “our”, refer to the environmental staff of the Office of Energy Projects (OEP).

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

Currently Identified Environmental Issues

In the EA, we will discuss impacts that could occur as a result of the construction and operation of the project. We will also evaluate possible alternatives to the proposed project or portions of the project.

We have already identified some issues that we think deserve attention based on a preliminary review of the proposed facilities and the environmental information provided by CenterPoint. This preliminary list of issues may be changed based on your comments and our analysis.

Project-related impact on:

• Pipeline crossings of 12 perennial waterbodies.

• Five federally-listed threatened and endangered species potentially in the project area.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 1.

• Reference Docket No. CP05-58-000.

• Mail your comments so that they will be received in Washington, DC on or before April 11, 2005.

Please note that the Commission strongly encourages electronic filing of any comments or interventions or protests to this proceeding. See 18 CFR 385.2001(a)(1)(iii) and the instructions on the Commission's Web site at http://www.ferc.gov under the “e-Filing” link and the link to the User's Guide. Before you can file comments you will need to create an account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's e-Filing system) or 14 paper copies of its filings to the Secretary of the Commission and must send a copy of its filings to all other parties on the Commission's service list for this proceeding. If you want to become an intervenor you must file a motion to intervene according to Rule 214 of the Commission's Rules of Practice and Procedure (18 CFR 385.214, see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E5-1179 Filed 3-17-05; 8:45 am]

BILLING CODE 6717-01-P